DEPARTMENT OF TRANSPORTATION

Federal Aviation Administration

Notice of Request To Release Airport Property

AGENCY: Federal Aviation Administration (FAA), DOT.

ACTION: Notice of intent to rule on request to release airport property for land disposal at the Hutchinson Regional Airport (HUT), Hutchinson, Kansas.

SUMMARY: The FAA proposes to rule and invites public comment on the release and sale of a 1.33 acre parcel of land at the Hutchinson Regional Airport (HUT), Hutchinson, Kansas.

DATES: Comments must be received on or before September 26, 2022.

ADDRESSES: Comments on this application may be mailed or delivered to the FAA at the following address: Amy J. Walter, Airports Land Specialist, Federal Aviation Administration, Airports Division, ACE-620G, 901 Locust Room 364, Kansas City, MO 64106.

In addition, one copy of any comments submitted to the FAA must be mailed or delivered to: Pieter Miller, C. M., Hutchinson Airport Manager, 1100 N. Airport Road, Hutchinson, Kansas 67504, (620) 694-2692.

FOR FURTHER INFORMATION CONTACT: Amy J. Walter, Airports Land Specialist, Federal Aviation Administration, Airports Division, ACE-620G 901 Locust Room 364, Kansas City, MO 64106, (816) 329-2603, amy.walter@faa.gov

The request to release property may be reviewed, by appointment, in person at this same location.

SUPPLEMENTARY INFORMATION: The FAA invites public comment on the request to release approximately 1.33 acres of airport property at the Hutchinson Regional Airport (HUT) under the provisions of 49 U.S.C. 47107(h)(2). The Airport Manager requested from the FAA that a 1.33 acre parcel of land be released for sale to Scott and Danielle Tajchman. The FAA determined the request to release and sell property at Hutchinson Regional Airport (HUT) submitted by the Sponsor meets the procedural requirements of the Federal Aviation Administration and the release and sale of the property does not and will not impact future aviation needs at the airport. The FAA may approve the request, in whole or in part, no sooner than thirty days after the publication of this Notice.

The following is a brief overview of the request:

Hutchinson Regional Airport (HUT) is proposing the release and sale of a 1.33 acre parcel. The release of land is necessary to comply with Federal Aviation Administration Grant Assurances that do not allow federally acquired airport property to be used for non-aviation purposes. The sale of the subject property will result in the release of land and surface rights at the Hutchinson Regional Airport (HUT) from the conditions of the AIP Grant Agreement Grant Assurances. In accordance with 49 U.S.C. 47107(c)(2)(B)(i) and (iii), the airport will receive fair market value and the property will be used by the adjacent land owner for personal use.

Any person may inspect, by appointment, the request in person at the FAA office listed above under FOR FURTHER INFORMATION CONTACT. In addition, any person may, request an appointment and inspect the application, notice and other documents determined by the FAA to be related to the application in person at the Hutchinson Regional Airport.

Issued in Kansas City, MO, on August 18, 2022.
James A. Johnson,
Director, FAA Central Region, Airports Division.

[FR Doc. 2022-18337 Filed 8-24-22; 8:45 am]

BILLING CODE 4910-13-P